ADMINISTRATIVE CONFERENCE OF THE UNITED STATES

Notice of Public Meeting of the Assembly of the Administrative Conference of the United States

AGENCY: Administrative Conference of the United States.

ACTION: Notice.

SUMMARY: Pursuant to the Federal Advisory Committee Act (5 U.S.C. App.), the Assembly of the Administrative Conference of the United States will hold a meeting to consider two proposed recommendations and to conduct other business. This meeting will be open to the public.

DATES: The meeting will take place on Thursday, June 4, 2015, 10:00 a.m. to 5:00 p.m. The meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will discuss and consider two proposed recommendations as described below:

Promoting Accuracy and Transparency in the Unified Agenda. This recommendation offers suggestions for improving the accuracy and transparency of the Unified Agenda of Federal Regulatory and Deregulatory Actions. Among other things, it urges agencies to consider providing relevant updates between Agenda reporting periods, offers recommendations for ensuring that Agenda entries are properly categorized by projected issuance date and status, and encourages agencies to provide notice when entries are removed from the Agenda.

Issue Exhaustion in Preenforcement Judicial Review of Administrative Rulemaking. This recommendation examines judicial application of an issue exhaustion requirement in preenforcement review of administrative rulemaking. It urges courts to recognize that issue exhaustion principles developed in the context of adversarial agency adjudications may not always apply in the context of preenforcement review of rulemaking, but also recognizes that courts generally should not resolve issues litigants did not raise during the administrative rulemaking proceeding. It also offers guidance to the judiciary and agencies regarding when it may be appropriate to make exceptions.

Additional information about the proposed recommendations and the order of the agenda, as well as other materials related to the meeting, can be found at the 62nd Plenary Session page on the Conference's Web site: (https://www.acus.gov/meetings-and-events/plenary-meeting/62nd-plenary-session).

Public Participation: The Conference welcomes the attendance of the public at the meeting, subject to space limitations, and will make every effort to accommodate persons with disabilities or special needs. If you wish to attend in person, please RSVP online at the 62nd Plenary Session Web page listed above, no later than two days before the meeting, in order to facilitate entry. If you need special accommodations due to disability, please inform the Designated Federal Officer noted above at least seven days in advance of the meeting. Members of the public who attend the meeting may be permitted to speak only with the consent of the Chairman and the unanimous approval of the members of the Assembly. The public may also view the meeting through a live webcast, which will be available at: https://new.livestream.com/ACUS/62ndPlenarySession. In addition, the public may follow the meeting on our Twitter feed @acusgov or hashtag #62ndPlenary.

Written Comments: Persons who wish to comment on the proposed recommendations may do so by submitting a written statement either online by clicking “Submit a Comment” on the 62nd Plenary Session Web page listed above or by mail addressed to: June 2015 Plenary Session Comments, Administrative Conference of the United States, Suite 706 South, 1120 20th Street NW., Washington, DC 20036. Written submissions must be relevant to the recommendations being debated, and received no later than Wednesday, May 27, to ensure consideration by the Assembly.

Dated: May 5, 2015.
Shawne McGibbon,
General Counsel.

[FR Doc. 2015-11265 Filed 5-8-15; 8:45 am]

BILLING CODE 6110-01-P